FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Hazard Mitigation Planning/State Hazard Mitigation Plan.

Type of Information Collection: Reinstatement, without change, of a previously approved collection for which approval has expired.

OMB Number: 3067-0212.

Abstract: To obtain federal grant assistance through Federal programs such as the Hazard Mitigation Grant Program or the Fire Suppression Programs, States are required to conduct an evaluation of existing natural hazards to identify beneficial hazard mitigation measures. Plans must be updated and submitted for FEMA approval after a major disaster or emergency declaration before a State can request and receive Federal Financial assistance.

Affected Public: State, Local or Tribal Government.

Number of Respondents: 16 States.

Estimated Time per Respondent: 1.6 responses per State.

Estimated Total Annual Burden Hours: 4,160 hours.

Frequency of Response: On occassions.

Comments: Interested persons are invited to submit written comments on the proposed information collection to the Desk Officer for the Federal Emergency Management Agency, Office of Information and Regulatory Affairs, Office of Management and Budget, Washington, DC 20503 on or before September 5, 2000.

FOR FURTHER INFORMATION CONTACT: Requests for additional information or copies of the information collection should be made to Muriel B. Anderson, Chief, Records Management Branch, Program Services Division, Operations Support Directorate, Federal Emergency Management Agency, 500 C Street, SW, Room 316, Washington, DC 20472, telephone number (202) 646-2625, FAX number (202) 646-3524, or e-mail address: muriel.anderson@fema.gov.

Dated: July 26, 2000.
Reginald Trujillo,
Director, Program Services Division, Operations Support Directorate.

[FR Doc. 00-19713 Filed 8-2-00; 8:45 am]

BILLING CODE 6718-01-P